DEPARTMENT OF ENERGY

Federal Energy Regulatory Commission

[Docket Nos. AD22-11-000, AD21-9-000]

Office of Public Participation Fundamentals for Participating in FERC Matters; Notice of Virtual Workshop: WorkshOPP on Tips for Powerful Comments

Take notice that Federal Energy Regulatory Commission (Commission) staff will convene, in the above-referenced proceeding, a virtual workshop on February 23, 2023, from 1:00 p.m. to 2:30 p.m. Eastern time, to discuss tips for writing comments. Commissioner James Danly and Commission staff will share their views on the role of comments in Commission decision-making to facilitate increased and effective public participation. The workshop will be held virtually.

The workshop will be open for the public to attend, and there is no fee for attendance. Further details on the workshop can be found on the FERC's Office of Public Participation website. Information about the workshop will also be posted on the Calendar of Events on the Commission's website, www.ferc.gov, prior to the event.

The workshop will be accessible under section 508 of the Rehabilitation Act of 1973. For accessibility accommodations, please send an email to accessibility@ferc.gov or call toll free 1-866-208-3372 (voice) or 202-502-8659 (TTY)or send a FAX to 202-208-2106 with the required accommodations.

For more information about the workshop, please contact Amanda Bradshaw of the Commission's Office of Public Participation at 202-502-6543 or send an email to OPP@ferc.gov.

Dated: January 25, 2023.
Kimberly D. Bose,
Secretary.

[FR Doc. 2023-01934 Filed 1-30-23; 8:45 am]

BILLING CODE 6717-01-P